Proclamation 8951 of March 29, 2013

National Financial Capability Month, 2013

By the President of the United States of America

A Proclamation

All Americans deserve the chance to turn their hard work into a decent living for their families and a bright future for their children. Seizing that opportunity takes more than drive and initiative—it also requires smart financial planning. During National Financial Capability Month, we recommit to empowering individuals and families with the knowledge and tools they need to get ahead in today's economy.

My Administration is dedicated to helping people make sound decisions in the marketplace. Last year, we partnered with businesses and community leaders to roll out new public and private commitments to increasing financial literacy. We released a new financial capability toolkit to help schools and employers as they launch their own initiatives. And with our College Scorecard and Financial Aid Shopping Sheet, we are working to give families clear, transparent information on college costs so they can make good choices when they invest in higher education. Together, we can prepare young people to tackle financial challenges—from learning how to budget responsibly to saving for college, starting a business, or opening a retirement account.

Financial capability also means helping people avoid scams and demand fair treatment when they take out a mortgage, use a credit card, or apply for a student loan. My Administration continues to encourage responsibility at all levels of our financial system by cracking down on deceptive practices and ensuring that consumers are informed of their rights.

We also know that too many families are living paycheck-to-paycheck, unable to take advantage of tools that would help them plan for a middle class life. That is why we must build ladders of opportunity for everyone willing to climb them—from a fair minimum wage that lifts working Americans out of poverty to high-quality preschool and early education that gets every child on the right track early. These reforms would encourage the kind of broad-based economic growth that gives everyone a better chance to secure their financial future.

Our history shows that there is no economic engine more powerful than a thriving middle class. Reigniting that engine means giving ordinary citizens the tools to find prosperity, including strong financial capability. To learn more about managing money and navigating the 21st-century marketplace, visit www.MyMoney.gov and www.ConsumerFinance.gov, or call 1-888-MyMoney.

NOW, THEREFORE, I, BARACK OBAMA, President of the United States of America, by virtue of the authority vested in me by the Constitution and the laws of the United States, do hereby proclaim April 2013 as National Financial Capability Month. I call upon all Americans to observe this month with programs and activities to improve their understanding of financial principles and practices.

IN WITNESS WHEREOF, I have hereunto set my hand this twenty-ninth day of March, in the year of our Lord two thousand thirteen, and of the Independence of the United States of America the two hundred and thirty-seventh.

[FR Doc. 2013-07922

Filed 4-3-13; 8:45 am]

Billing code 3295-F3